DEPARTMENT OF ENERGY

Agency Information Collection Extension

AGENCY: U.S. Department of Energy.

ACTION: Notice and Request for Comments.

SUMMARY: The Department of Energy (DOE), pursuant to the Paperwork Reduction Act of 1995, intends to extend for three years, an information collection package with the Office of Management and Budget (OMB) concerning Collection of Human Resource information from major DOE contractors for contract management, administration, and cost control. Comments are invited on:

(a) Whether the extended collection of information is necessary for the proper performance of the functions of the agency, including whether the information shall have practical utility;

(b) The accuracy of the agency's estimate of the burden of the proposed collection of information, including the validity of the methodology and assumptions used;

(c) Ways to enhance the quality, utility, and clarity of the information to be collected; and

(d) Ways to minimize the burden of the collection of information on respondents, including through the use of automated collection techniques or other forms of information technology.

DATES: Comments regarding this proposed information collection must be received on or before May 16, 2008. If you anticipate difficulty in submitting comments within that period, contact the person listed below as soon as possible.

ADDRESSES: Written comments may be sent to: Robert M. Myers, U.S. Department of Energy, 1000 Independence Avenue, SW., Washington, DC 20585-1615, 202-287-1584, or by fax at 202-287-1656 or by e-mail at robert.myers@hq.doe.gov.

FOR FURTHER INFORMATION CONTACT: Requests for additional information or copies of the information collection instrument and instructions should be directed to Robert Myers at the address listed above.

SUPPLEMENTARY INFORMATION: This package contains:

(1) OMB No. 1910-0600;

(2) Package Title: Industrial Relations;

(3) Type of Review: Renewal;

(4) Purpose: This information is required for management oversight for the Department of Energy's Facilities Management Contractors and to ensure that the programmatic and administrative management requirements of the contract are managed efficiently and effectively;

(5) Respondents: 349;

(6) Estimated Number of Burden Hours: 8,173.

Statutory Authority: The basic authority for collection of this data is the statute establishing the Department of Energy (“Department of Energy Organization Act,” Public Law 95-91, of August 4, 1977). It vests the Secretary of Energy with the executive direction and management function, authority, and responsibilities for the Department, including contract management. The provisions of 42 U.S.C. 7254 state that “The Secretary is authorized to prescribe such procedural and administrative rules and regulations as he may deem necessary or appropriate to administer and manage the functions now or hereafter vested in him.”

Issued in Washington, DC on March 8, 2008.
Edward R. Simpson,
Director, Office of Procurement and Assistance Management.

[FR Doc. E8-5267 Filed 3-14-08; 8:45 am]

BILLING CODE 6450-01-P